DEPARTMENT OF HOMELAND SECURITY

Federal Emergency Management Agency

44 CFR Part 67

Final Flood Elevation Determinations

AGENCY: Federal Emergency Management Agency, Emergency Preparedness and Response Directorate, Department of Homeland Security.

ACTION: Final rule.

SUMMARY: Base (1% annual-chance) Flood Elevations and modified Base Flood Elevations (BFEs) are made final for the communities listed below. The BFEs and modified BFEs are the basis for the floodplain management measures that each community is required either to adopt or to show evidence of being already in effect in order to qualify or remain qualified for participation in the National Flood Insurance Program (NFIP).

EFFECTIVE DATE: The date of issuance of the Flood Insurance Rate Map (FIRM) showing BFEs and modified BFEs for each community. This date may be obtained by contacting the office where the FIRM is available for inspection as indicated in the table below.

ADDRESSES: The final base flood elevations for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The Federal Emergency Management Agency makes the final determinations listed below of BFEs and modified BFEs for each community listed. These modified elevations have been published in newspapers of local circulation and ninety (90) days have elapsed since that publication. The Mitigation Division Director of the Emergency Preparedness and Response Directorate has resolved any appeals resulting from this notification.

This final rule is issued in accordance with Section 110 of the Flood Disaster Protection Act of 1973, 42 U.S.C. 4105, and 44 CFR Part 67.

The Federal Emergency Management Agency has developed criteria for floodplain management in floodprone areas in accordance with 44 CFR Part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR Part 10, Environmental Consideration. No environmental impact assessment has been prepared.

Regulatory Flexibility Act. The Mitigation Division Director of the Emergency Preparedness and Response Directorate certifies that this rule is exempt from the requirements of the Regulatory Flexibility Act because modified base flood elevations are required by the Flood Disaster Protection Act of 1973, 42 U.S.C. 4105, and are required to establish and maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 67

Administrative practice and procedure, Flood insurance, Reporting and recordkeeping requirements.

Accordingly, 44 CFR Part 67 is amended to read as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location of referenced elevation | *Elevation in feet (NGVD) modified | Communities affected
Mile Branch:
Approximately 1,320 feet downstream of the Burlington Northern & Santa Fe Railway | *993 | FEMA Docket No. P7631 City of Bolivar, Polk County (Unincorporated Areas).
Approximately 1,050 feet upstream of 103rd Road | *1,075
Mile Branch Tributary No. 2:
Approximately 775 feet downstream of West Parkview | *1,005 | City of Bolivar, Polk County (Unincorporated Areas).
Approximately 1,520 feet upstream of West Parkview | *1,046
Mile Branch Tributary No. 3:
At confluence with Mile Branch | *1,012 | City of Bolivar.
At Limit of Detailed Study | *1,056
Mile Branch Tributary No. 4:
At confluence with Mile Branch | *1,024
At Limit of Detailed Study | *1,060
Mile Branch Tributary No. 6:
At confluence with Mile Branch | *1,046
At Limit of Detailed Study | *1,064
Mile Branch Tributary No. 7:
At confluence with Mile Branch | *1,068
At Limit of Detailed Study | *1,078
Southern Tributary to Town Branch:
Approximately 2,440 feet downstream of Buffalo Street | *996 | City of Bolivar, Polk County (Unincorporated Areas).
Approximately 600 feet upstream of Circle Drive | *1,052
Southern Tributary to Town Branch-Tributary No. 1:
At confluence with Southern Tributary to Town Branch | *1,036 | City of Bolivar.
At Limit of Detailed Study | *1,061
Town Branch:
Approximately 1,750 feet downstream of Broadway Street (State Highway 32) | *980 | City of Bolivar, Polk County (Unincorporated Areas).
Approximately 1,500 feet upstream of Lakewood Drive | *1,081
Town Branch Tributary No. 1:
Approximately 150 feet downstream of East Walnut Street | *1,027 | City of Bolivar.
Approximately 50 feet upstream of Buffalo Street | *1,049
Town Branch Tributary No. 2:
Approximately 135 feet downstream from Jefferson Street | *1,033
At Burlington Northern & Santa Fe Railway | *1,055
Town Branch Tributary No. 3:
At confluence with Town Branch | *1,070
At Limit of Detailed Study | *1,081
ADDRESSES
Polk County (Unincorporated Areas):
Maps are available for inspection at 102 East Broadway Street, Room 11, Bolivar, Missouri.
City of Bolivar:
Maps are available for inspection at City Hall, 345 South Main Street, Bolivar, Missouri.
Hutchins Creek:
Just downstream of Langdon Drive | *399 | FEMA Docket No. P7641 Dallas County, Texas (Unincorporated Areas).
Approximately 915 feet upstream of North JJ Lemmon Street | *484 | City of Hutchins, Texas.
Rawlins Creek:
Approximately 100 feet downstream of the confluence of Stream 4B4 | *396 | Dallas County, Texas (Unincorporated Areas).
Approximately 2,350 feet upstream of South Miller Ferry Road | *490 | City of Hutchins, Texas.
Stream 4B4:
Approximately 500 feet upstream of the confluence with Rawlins Creek | *396 | Dallas County, Texas (Unincorporated Areas).
Approximately 425 feet upstream of North Denton Street | *469 | City of Hutchins, Texas.
ADDRESSES
City of Hutchins, Dallas County, Texas:
Maps are available for inspection at Gross and Associates Real Estate, 206 North Pacific Street, Hutchins, Texas.
Unincorporated Areas of Dallas County, Texas:
Maps are available for inspection at the County Records Building, 509 Main Street, Dallas, Texas.

(Catalog of Federal Domestic Assistance No. 83.100, “Flood Insurance.”)

Dated: March 24, 2004.
Anthony S. Lowe,
Mitigation Division Director, Emergency Preparedness and Response Directorate.

[FR Doc. 04-7598 Filed 4-2-04; 8:45 am]

BILLING CODE 9110-12-P